DEPARTMENT OF HOMELAND SECURITY

Transportation Security Administration

[Docket No. TSA-2004-17131]

Intent To Request Renewal From OMB of One Current Public Collection of Information: Aircraft Repair Station Security

AGENCY: Transportation Security Administration, DHS.

ACTION: 60-day notice.

SUMMARY: The Transportation Security Administration (TSA) invites public comment on one currently approved Information Collection Request (ICR), Office of Management and Budget (OMB) control number 1652-0060, abstracted below that we will submit to OMB for renewal in compliance with the Paperwork Reduction Act (PRA). The ICR describes the nature of the information collection and its expected burden. The collection involves recordkeeping, petitions for reconsideration, and paper and desk audits.

DATES: Send your comments by November 2, 2015.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0060; Aircraft Repair Station Security. In accordance with the Aviation Transportation Security Act (ATSA), 49 U.S.C. 44924, and relevant TSA regulations, 49 CFR part 1554, TSA will perform security reviews and audits of aircraft repair stations located within and outside of the United States.

Background

On December 12, 2003, the President of the United States signed into law the Vision 100 Century of Aviation Reauthorization Act (the Act). Section 611 of the Act requires the Department of Homeland Security (DHS) to ensure the security of aircraft repair stations. The Act further requires a security review and audit of foreign repair stations certificated by the Federal Aviation Administration (FAA). TSA, on behalf of DHS, is the agency to conduct the relevant tasks associated with this legislation. In response to the Act, TSA published a final rule setting forth the new requirements on January 13, 2014. See 79 FR 2120.

Only repair stations certificated by the FAA under part 145 and which are located on or adjacent to an airport, as defined in 49 CFR 1554.101(a)(1) and (2), are required to implement security requirements including designating a TSA point of contact and preventing the operation of unattended large aircraft that are capable of flight. All repair stations certificated by the FAA under part 145 that are not located on a military installation are subject to inspection by TSA. A repair station owner or operator is responsible for maintaining updated employment history records to demonstrate compliance with the regulatory requirements. These records must be made available to TSA upon request. If TSA discovers security deficiencies, a repair station may be subject to suspension or, in extreme cases, withdrawal of its certification by the FAA if such deficiencies are not corrected. A repair station owner or operator may petition for reconsideration (appeal) a determination by TSA that FAA must suspend or revoke its certificate. Newly certificated repair stations located outside of the U.S. may be required to respond to paper and desk audits by completing a form and returning it to TSA. TSA uses the collected information to determine compliance with the security measures required under 49 CFR part 1554.

TSA received approval from OMB for the collection of information on June 4, 2014, which is approved through December 2015. TSA now seeks to extend this approval from OMB to continue collecting information relating to recordkeeping of employment history records, petitions for reconsideration, and paper/desk audits. Accordingly, TSA must proceed with this ICR for this program in order to continue to comply with statutory mandates.

The respondents to this information collection are the owners and/or operators of repair stations certificated by the FAA under 14 CFR part 145, which is estimated to be 451 repair stations located in the U.S. and 772 repair stations located outside the U.S.

TSA has completed a security audit of 707 repair stations located outside the U.S. as required by the statute. TSA estimates that 225 stations located on or adjacent to airports may be required to provide records to TSA in the event a security deficiency is identified and is not immediately corrected. Each respondent repair station would spend approximately 1 hour to provide information to inspectors and would incur a total of 225 burden hours (225 repair stations * 1 hour).

In addition, there are 65 repair stations that received certification after the original security audit was completed. These newly certificated repair stations may be required to provide records to TSA upon request. Each respondent repair station would spend approximately 2 hours to prepare and submit records. TSA estimates that respondents will incur a total of 130 burden hours (65 repair stations * 2 hours) to satisfy the recordkeeping requirement.

TSA estimates that of the 451 repair stations within the U.S required to implement security measures, 151 repair stations will be required to provide records to TSA upon request. Each respondent repair station will spend approximately 2 hours to prepare and submit records. TSA estimates that respondents will incur a total of 302 burden hours (151 repair stations * 2 hours) to satisfy the recordkeeping requirement.

TSA estimates that of the 451 repair stations within the U.S., 1 repair station will petition for reconsideration. The respondent repair station will spend approximately 10 hours to complete the process. Once a repair station receives a written notice of security deficiencies, the repair station must respond in writing within 45 days describing the measures implemented to correct the deficiencies. If the repair station fails to correct the deficiencies within 90 days, TSA will issue a notice to the repair station and to the FAA that the certificate must be suspended. A repair station may petition for review of that determination within 20 days by providing a written response including any information TSA should consider in reviewing its decision. TSA estimates that the respondent will incur a total of 10 burden hours (1 repair station * 10 hours).

TSA estimates that all respondents repair stations will incur a total of 657 hours (355 outside the U.S. and 312 within the U.S.) annually to satisfy the collection requirements. Therefore, the total average annual hour burden estimate is approximately 657 hours. There is no cost burden to respondents as a result of this collection.

Dated: August 24, 2015.
Christina A. Walsh,
TSA Paperwork Reduction Act Officer, Office of Information Technology.

[FR Doc. 2015-21623 Filed 8-31-15; 8:45 am]

BILLING CODE 9110-05-P